ENVIRONMENTAL PROTECTION AGENCY

[R04-OAR-2005-NC-0002-200508; FRL-7909-2]

Adequacy Status of the Charlotte, Raleigh/Durham, and Winston-Salem, NC Carbon Monoxide Maintenance Plan Updates for Transportation Conformity Purposes

AGENCY: Environmental Protection Agency (EPA).

ACTION: Notice of adequacy.

SUMMARY: In this notice, EPA is notifying the public that EPA has found that the motor vehicle emission budgets (MVEB) in the Charlotte (Mecklenburg County), Raleigh/Durham (Durham and Wake Counties), and Winston-Salem (Forsyth County) carbon monoxide maintenance plan updates, submitted March 23, 2005, by the North Carolina Department of Environment and Natural Resources (NCDENR), are adequate for transportation conformity purposes. On March 2, 1999, the DC Circuit Court ruled that submitted State Implementation Plans (SIPs) cannot be used for transportation conformity determinations until EPA has affirmatively found them adequate. As a result of EPA's finding, the Charlotte, Raleigh/Durham, and Winston-Salem areas can use the MVEB from the submitted Charlotte, Raleigh/Durham, and Winston-Salem carbon monoxide maintenance plan updates, respectively, for future conformity determinations.

DATES: These MVEB are effective May 23, 2005.

FOR FURTHER INFORMATION CONTACT: Matt Laurita, Environmental Engineer, U.S. Environmental Protection Agency, Region 4, Air Planning Branch, Air Quality Modeling and Transportation Section, 61 Forsyth Street, SW., Atlanta, Georgia 30303. Mr. Laurita can also be reached by telephone at (404) 562-9044, or via electronic mail at laurita.matthew@epa.gov. The finding is available at EPA's conformity Web site: http://www.epa.gov/otaq/transp.htm (once there, click on the “Transportation Conformity” text icon, then look for “Adequacy Review of SIP Submissions”).

SUPPLEMENTARY INFORMATION:

Background

Today's notice is simply an announcement of a finding that EPA has already made. EPA Region 4 sent a letter to NCDENR on April 29, 2005, stating that the MVEB in the submitted Charlotte, Raleigh/Durham, and Winston-Salem carbon monoxide maintenance plan updates submitted on March 23, 2005, are adequate. This finding has also been announced on EPA's conformity Web site: http://www.epa.gov/otaq/transp.htm, (once there, click on the “Transportation Conformity” text icon, then look for Adequacy Review of SIP Submissions”). The adequate MVEB are provided in the following tables.

Charlotte Area MVEB
[Tons per day]
County | Pollutant | 2015
Mecklenburg | CO | 470.18

Raleigh/Durham Area MVEB
[Tons per day]
County | Pollutant | 2015
Durham | CO | 177.22
Wake | CO | 384.27

Winston-Salem Area MVEB
[Tons per day]
County | Pollutant | 2015
Forsyth | CO | 247.64

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEB are adequate for transportation conformity purposes are outlined in 40 Code of Federal Regulations 93.118(e)(4). Please note that an adequacy review is separate from EPA's completeness review, and it also should not be used to prejudge EPA's ultimate approval of the SIP. Even if EPA finds a budget adequate, the Agency may later determine that the SIP itself is not approvable.

EPA has described the process for determining the adequacy of submitted SIP budgets in guidance (May 14, 1999 memorandum entitled “Conformity Guidance on Implementation of March 2, 1999 Conformity Court Decision”). EPA has followed this guidance in making this adequacy determination. This guidance is incorporated into EPA's July 1, 2004, final rulemaking entitled “Transportation Conformity Rule Amendments for the New 8-hour Ozone and PM2.5 National Ambient Air Quality Standards and Miscellaneous Revisions for Existing Areas; Transportation Conformity Rule Amendments: Response to Court Decision and Additional Rule Changes.”

Authority: 42 U.S.C. 7401-7671q.

Dated: April 29, 2005.
A. Stanley Meiburg,
Acting Regional Administrator, Region 4.

[FR Doc. 05-9213 Filed 5-5-05; 8:45 am]

BILLING CODE 6560-50-P